DEPARTMENT OF AGRICULTURE

Farm Service Agency

Information Collection Request; Customer Data Worksheet Request for Business Partner Record Change

AGENCY: Farm Service Agency, USDA.

ACTION: Notice and request for comments.

SUMMARY: In accordance with the Paperwork Reduction Act of 1995, the Farm Service Agency (FSA) is requesting comments from all interested individuals and organizations on an extension with a revision of a currently approved information collection to support Customer Data Worksheet Request for Business Partner (BP) that contains the producer's personal information. Specifically, FSA is requesting comment on the form AD-2047, “Customer Data Worksheet Request for Business Partner Record Change”. FSA is using the collected information in support of documenting critical producer data changes (customer name, current mailing address and tax identification number) in BP made at the request of the producer to correct or update their information. The critical producer data are being used to update existing producer record data and document when and who initiates and changes the record in BP.

DATE: We will consider comments that we receive by May 30, 2017.

ADDRESSES: We invite you to submit comments on this notice. In your comments, include date, volume, and page number of this issue of the Federal Register. You may submit comments by any of the following methods:

• Federal eRulemaking Portal: Go to: www.regulations.gov. Follow the online instructions for submitting comments.

• Kerry Sefton, Agricultural Program Specialist, USDA, FSA, STOP 0517, 1400 Independence Avenue SW., Washington, DC 20250-0517.

You may also send comments to the Desk Officer for Agriculture, Office of Information and Regulatory Affairs, Office of Management and Budget, Washington, DC 20503. Copies of the information collection may be requested by contacting Kerry Sefton at the above address.

SUPPLEMENTARY INFORMATION:

Title: Customer Data Worksheet Request for Business Partner Record Changes.

OMB Control Number: 0560-0265.

Type of Request: Extension with a revision of currently approved information collection.

Abstract: The information collection is necessary to effectively monitor critical producer data changes made in BP at the request of the producer to correct or update their information. The form AD-2047, Customer Data Worksheet Request for Business Partner Record Change, is used to collect the information from the producer to make changes to the information in BP. The necessity to monitor critical producer data changes in the BP database is a direct result of the OMB Circular A-123 Remediation/Corrective Action Plan for County Office Operations which requires effective internal controls to be in place for Federal programs. FSA team was established and reviewed and documented key controls related to all material producer accounts. FSA also included the analysis on a review of BP.

The number of respondents increased by 5,179 to account for additional customers because of new programs that have been implemented since the last OMB approval.

For the following estimated total annual burden on respondents, the formula used to calculate the total burden hours is the estimated average time per response multiplied by the estimated total annual of responses.

Estimated Average Time to Respond: Public reporting burden for collection of this information is estimated to average 0.17 hours per response.

Type of Respondents: FSA, NRCS, and RD customers currently residing in BP.

Estimated Number of Respondents: 56,926.

Estimated Number of Responses per Respondent: 1.

Estimated Annual Number of Responses: 56,926.

Estimated Average Time per Response: 0.17.

Estimated Total Annual Burden Hours: 9,677.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected; and

(4) Minimize the burden of the collection of information on those who are to respond, including through the use of appropriate automated, electronic, mechanical, or other technological collection techniques or other forms of information technology.

All responses to this notice, including name and addresses when provided, will be summarized and included in the request for OMB approval. All comments will also become a matter of public record.

Chris P. Beyerhelm,
Acting Administrator, Farm Service Agency.

[FR Doc. 2017-06144 Filed 3-28-17; 8:45 am]

BILLING CODE 3410-05-P